DEPARTMENT OF COMMERCE

National Institute of Standards and Technology

[Docket Number: 100413183-0188-01]

Manufacturing Extension Partnership (MEP) Availability of Funds for Projects To Develop Client Engagement or Business Models and Deployment Strategies That Integrate Two or More of the MEP Strategic Growth Areas

AGENCY: National Institute of Standards and Technology (NIST), Department of Commerce (DOC).

ACTION: Notice.

SUMMARY: The objective of National Institute of Standards and Technology's Manufacturing Extension Partnership (NIST MEP) program is to enhance productivity, technological performance, and strengthen the global competitiveness of small- and medium-sized U.S. based manufacturing firms. NIST MEP invites proposals from eligible organizations for projects to develop client engagement or business models and deployment strategies that integrate two or more of the MEP Strategic Growth Areas. The projects should further demonstrate in its proposed client engagement or business model, the benefit of this integration and how the approach can expand service capability and capacity of the MEP system. The five MEP Strategic Growth Areas are: supply chain, sustainability, technology acceleration, workforce and continuous improvement. Proposals should include a project plan, a client engagement or business model and deployment strategy for the project, and an approach for leveraging existing tools, resources and partnerships.

DATES: All applications must be received or postmarked no later than 5 p.m. Eastern Time on July 15, 2010. Late proposals will not be reviewed. NIST MEP will hold a free webinar information session for organizations considering applying to this opportunity on June 22, 2010 at 2 p.m. Eastern Daylight Saving Time.

ADDRESSES: Hard copy submissions should be sent to: National Institute of Standards and Technology, Manufacturing Extension Partnership, c/o Diane Henderson, 100 Bureau Drive, Stop 4800, Gaithersburg, MD 20899-4800. Electronic submissions should be uploaded to http://www.Grants.gov.

Information Sessions: NIST MEP will hold an information session for organizations considering applying to this opportunity. The information session will be in the form of a webinar to be held on the date stated in the date section of this Federal Register Notice (7 days following the posting of the announcement). Registration information will be posted on the NIST MEP public Web site http://www.nist.gov/mep.

FOR FURTHER INFORMATION CONTACT: A paper copy of the Federal Register Notice (FRN) may be obtained by calling (301) 975-6328. Administrative, budget, cost-sharing, and eligibility questions should be addressed to Diane Henderson at Tel: (301) 975-5105; E-mail: diane.henderson@nist.gov; Fax: (301) 963-6556. Project evaluation criteria and other programmatic questions should be addressed to Alex Folk at Tel: (301) 975-8089; E-mail: alex.folk@nist.gov; Fax: (301) 963-6556. Grants Administration questions should be addressed to: Grants and Agreements Management Division; National Institute of Standards and Technology; 100 Bureau Drive, Stop 1650; Gaithersburg, MD 20899-1650; Tel: (301) 975-6328. For assistance with using Grants.gov contact support@grants.gov or call 800-518-4726. All questions and responses will be posted on the MEP Web site, http://www.nist.gov/mep.

SUPPLEMENTARY INFORMATION: Electronic access: Applicants are strongly encouraged to read the Federal Funding Opportunity (FFO) announcement available at http://www.grants.gov for complete information about this program, including all program requirements and instructions for applying by paper or electronically.

Authority: 15 U.S.C. 272(b)(1) and (c)(3), and 278l, as implemented in 15 CFR Section 292.2.

Catalog of Federal Domestic Assistance Name and Number: Manufacturing Extension Partnership—11.611.

Information Session: NIST MEP will hold a free information session for organizations considering applying to this opportunity. The information session will be in the form of a free webinar to be held on the date specified in the DATES section above at 2 p.m. Eastern Daylight Saving Time. Organizations wishing to participate in the webinar must register at the NIST MEP public Web site http://www.nist.gov/mep.

Program Description: The objective of NIST MEP program is to increase productivity, enhance technological performance, and strengthen the global competitiveness of small- and medium-sized U.S. based manufacturing firms. The National Institute of Standards and Technology invites proposals from eligible organizations for projects to develop client engagement or business models and deployment strategies that integrate two or more of the MEP Strategic Growth Areas. The project should further demonstrate in its proposed client engagement or business model, the benefit of this integration and how the approach can expand service capability and capacity of the MEP system. The five MEP Strategic Growth Areas are: supply chain, sustainability, technology acceleration, workforce and continuous improvement. Proposals should include a plan, a client engagement or business model and deployment strategy for the project, and an approach for leveraging existing tools, resources and partnerships. More information on the MEP Strategic Growth Areas are found in NIST's MEP Next Generation Strategy, which can be found at http://www.nist.gov/mep.

Project specific performance measurement and management approaches, including key milestones, are crucial to the evaluation of these projects. NIST is seeking projects that present novel and new approaches to delivering and communicating performance measurement and evaluation. For example, those projects that incorporate the following factors will be considered competitive: internal performance measurement for management control, external evaluation for assessing outcomes of the activity, and “customer satisfaction” measures of performance. This could include approaches to gathering outcome information, comparisons of outcomes achieved by project clients or other approaches to performance measurement and evaluation.

The MEP program places high importance on ensuring that projects be well aligned with the work of MEP service providers in order to maximize the potential and impact of existing resources. Additional background information on MEP service providers is provided at http://www.nist.gov/mep.

NIST does not prescribe any particular management or operational structure of the project, but projects should be based upon approaches or structures used by technical assistance provider that have demonstrated success. Projects should include plans for integration into the MEP system and linkages to appropriate resources.

This program does not intend for awardees to perform research and development including new tool development.

Funding Availability: MEP anticipates awarding up to $12,000,000 in fiscal year 2010 through multiple solicitations. The total amount funded under this solicitation will vary depending on the proposals received by MEP. The total amount awarded will not exceed $12,000,000. Projects initiated under this solicitation may be carried out over a period of up to three years. When a proposal for a multi-year award is approved, funding will generally be provided for only the first year of the program. Continuation of an award or extensions of the period of performance is at the total discretion of the DOC. If an application is selected for funding, DOC has no obligation to provide any additional future funding in connection with that award. Funding for each subsequent year of a multi-year proposal will be contingent upon satisfactory progress and the availability of funds. Projects are expected to start within 30 days of award notice.

Cost Share Requirements: A non-Federal cost share contribution from the applicant is required. At a minimum, the applicant must provide 50% of the cost share toward the allowable expenses for the performance period. Cost share requirements must be met on an annual basis.

The applicant's share of the eligible expenses may include cash and third party in-kind contributions. However, at least 50% of the applicant's total cost share (cash plus in-kind) must be in cash. Applicants are encouraged to propose more than the minimum cost share. The source and detailed rationale of the cost share, both cash and in-kind, must be documented in the budget submitted with the proposal and will be considered as part of the evaluation review described below.

Eligibility: All nonprofit organizations including universities, community colleges, State governments, State technology programs and independent nonprofit organizations including existing MEP manufacturing extension centers are eligible. Organizations may submit multiple proposals under this solicitation for unique projects. A partnership with an existing MEP manufacturing extension center or centers is strongly encouraged.

Application Requirements: Applications must be submitted in accordance with the requirements set forth in the corresponding FFO announcement.

Evaluation Criteria: All qualified proposals will be evaluated based on the applicant's ability to align and integrate the proposal's deliverables to NIST MEP's Next Generation Strategy: Continuous Improvement, Technology Acceleration, Supplier Development, Sustainability and Workforce. The NIST MEP Next Generation Strategy can be found at http://www.nist.gov/mep.

Proposals will be evaluated and rated on the basis of the following criteria listed in descending order of importance:

(1) Demonstration that the proposed project will meet the training needs of technical assistance providers and manufacturers in the target population. The target population must be clearly defined and the proposal must demonstrate that it understands the population's training needs within the proposed project area. The proposal should show that the efforts being proposed meet the needs identified. Factors that may be considered include: A clear definition of the target population, size and demographic distribution; demonstrated understanding of the target population's training needs; and appropriateness of the size of the target population and the anticipated impact for the proposed expenditure.

(2) Development/deployment methodology and use of appropriate technology and information sources. The proposal must describe the technical plan for the development or deployment of the training, including the project activities to be used in the training development/deployment and the sources of technology and/or information which will be used to create or deploy the training activity. Sources may include those internal to the proposer or from other organizations. Factors that may be considered include: Adequacy of the proposed technical plan; strength of core competency in the proposed area of activity; and demonstrated access to relevant technical or information sources external to the organization.

(3) Delivery and implementation mechanisms. The proposal must set forth clearly defined, effective mechanisms for delivery and/or implementation of proposed services to the target population. The proposal also must demonstrate that training activities will be integrated into and will be of service to the NIST Manufacturing Extension Centers. Factors that may be considered include: Ease of access to the training activity especially for MEP extension centers; methodology for disseminating or promoting involvement in the training especially within the MEP system; and demonstrated interest in the training activity especially by MEP extension centers.

(4) Coordination with other relevant organizations. Wherever possible the project should be coordinated with and leverage other organizations which are developing or have expertise with similar training. If no such organizations exist, the proposal should show that this is the case. Applicants will need to describe how they will coordinate to allow for increased economies of scale and to avoid duplication. Factors that may be considered include: Demonstrated understanding of existing organizations and resources relevant to the proposed project; adequate linkages and partnerships with existing organizations and clear definition of those organizations' roles in the proposed activities; and that the proposed activity does not duplicate existing services or resources.

(5) Program evaluation. The applicant should specify plans for evaluation of the effectiveness of the proposed training activity and for ensuring continuous improvement of the training. Factors that may be considered include: Thoroughness of evaluation plans, including internal evaluation for management control, external evaluation for assessing outcomes of the activity, and “customer satisfaction” measures of performance.

(6) Management and organizational experience and plans. Applicants should specify plans for proper organization, staffing, and management of the implementation process. Factors that may be considered include: Appropriateness and authority of the governing or managing organization to conduct the proposed activities; qualifications of the project team and its leadership to conduct the proposed activity; soundness of any staffing plans, including recruitment, selection, training, and continuing professional development; and appropriateness of the organizational approach for carrying out the proposed activity.

(7) Financial plan. Applicants should show the relevance and cost effectiveness of the financial plan for meeting the objectives of the project; the firmness and level of the applicant's total financial support for the project; and a plan to maintain the program after the cooperative agreement has expired. Factors that may be considered include: Reasonableness of the budget, both in income and expenses; strength of commitment and amount of the proposer's cost share, if any; effectiveness of management plans for control of budget; appropriateness of matching contributions; and plan for maintaining the program after the cooperative agreement has expired.

Proposal Review and Selection Process

The proposal evaluation and selection process will consist of three principal phases: Proposal qualifications; proposal review and selection of finalists; and award determination per 15 CFR 292.5 as follows:

a. Proposal Qualification

All proposals will be reviewed by NIST to ensure compliance with application requirements. Proposals that satisfy these requirements will be designated as complete proposals; all others will be disqualified.

b. Proposal Review and Selection of Finalists

NIST will appoint an evaluation panel to review and evaluate all complete proposals in accordance with the evaluation criteria set forth in this notice and the accompanying FFO announcement. The evaluation panel will consist of NIST employees and in some cases other Federal employees or non-Federal experts who sign non-disclosure agreements. If non-Federal experts are used, all reviewers will provide individual scores and no consensus advice will be given by the panel. A site visit may be required to make a full evaluation of a proposal. From the qualified proposals, a group of finalists will be numerically ranked and recommended for award based on this review.

NIST may enter into negotiations with the finalists concerning any aspect of their proposal.

c. Award Determination

The Director of the NIST, or her/his designee (Director of the NIST MEP Program), shall select awardees based on the scores provided by the evaluation panel, geographic distribution, and the availability of funds. All three factors will be considered in making an award. Upon the final award decision, NIST will notify applicants of the results of the grant competition.

The Director of the NIST MEP Program shall make funding recommendations to NIST Grants Officer based on the rank order of applicants and the selection factors described above. The final approval of selected applications and award of financial assistance will be made by the NIST Grants Officer based on compliance with application requirements as published in this notice, compliance with applicable legal and regulatory requirements, and whether the recommended applicants appear to be responsible. Applicants may be asked to modify objectives, work plans, or budgets and provide supplemental information required by the agency prior to award. As a result of the selection process, NIST may fund all, some, or parts of the eligible applications submitted, or none at all. The decision of the Grants Officer is final.

Unsuccessful applicants will be notified in writing. The Program will retain one copy of each unsuccessful application for three years for record keeping purposes. The remaining copies will be destroyed.

The Department of Commerce Pre-Award Notification Requirements for Grants and Cooperative Agreements: The Department of Commerce Pre-Award Notification Requirements for Grants and Cooperative Agreements, which are contained in the Federal Register Notice of February 11, 2008 (73 FR 7696), are applicable to this notice. Please refer to http://www.gpoaccess.gov/fr/.

Dun and Bradstreet Data Universal Numbering System: On the form SF-424 items 8.b. and 8.c., the applicant's 9-digit Employer/Taxpayer Identification Number (EIN/TIN) and 9-digit Dun and Bradstreet Data Universal Numbering System (DUNS) number must be consistent with the information on the Central Contractor Registration (CCR) (http://www.ccr.gov) and Automated Standard Application for Payment System (ASAP). For complex organizations with multiple EIN/TIN and DUNS numbers, the EIN/TIN and DUNS number MUST be the numbers for the applying organization. Organizations that provide incorrect/inconsistent EIN/TIN and DUNS numbers may experience significant delays in receiving funds if their proposal is selected for funding. Please confirm that the EIN/TIN and DUNS number are consistent with the information on the CCR and ASAP.

Paperwork Reduction Act: The standard forms in the application kit involve a collection of information subject to the Paperwork Reduction Act. The use of Standard Forms 424, 424A, 424B, SF-LLL, and CD-346 have been approved by OMB under the respective Control Numbers 0348-0043, 0348-0044, 0348-0040, 0348-0046, and 0605-0001. MEP program-specific application requirements have been approved by OMB under Control Number 0693-0056.

Notwithstanding any other provision of the law, no person is required to respond to, nor shall any person be subject to a penalty for failure to comply with, a collection of information subject to the requirements of the Paperwork Reduction Act, unless that collection of information displays a currently valid OMB Control Number.

Funding Availability and Limitation of Liability: The funding periods and funding amounts referenced in this notice and request for proposals are subject to the availability of funds, as well as to Department of Commerce and NIST priorities at the time of award. The Department of Commerce and NIST will not be held responsible for proposal preparation costs. Publication of this notice does not obligate the Department of Commerce or NIST to award any specific grant or cooperative agreement or to obligate all or any part of available funds.

Executive Order 12866: This funding notice was determined to be not significant for purposes of Executive Order 12866.

Executive Order 13132 (Federalism): It has been determined that this notice does not contain policies with federalism implications as that term is defined in Executive Order 13132.

Executive Order 12372: Applications under this program are not subject to Executive Order 12372, “Intergovernmental Review of Federal Programs.”

Administrative Procedure Act/Regulatory Flexibility Act: Notice and comment are not required under the Administrative Procedure Act (5 U.S.C. 553) or any other law, for rules relating to public property, loans, grants, benefits or contracts (5 U.S.C. 553 (a)). Because notice and comment are not required under 5 U.S.C. 553, or any other law, for rules relating to public property, loans, grants, benefits or contracts (5 U.S.C. 553(a)), a Regulatory Flexibility Analysis is not required and has not been prepared for this notice, 5 U.S.C. 601 et seq.

Dated: June 10, 2010.
David M. Robinson,
Chief Financial Officer.

[FR Doc. 2010-14394 Filed 6-14-10; 8:45 am]

BILLING CODE 3510-13-P